DEPARTMENT OF HOMELAND SECURITY

Coast Guard

33 CFR Part 100

[Docket No. USCG-2021-0273]

Special Local Regulation; Annual Les Cheneaux Islands Antique Wooden Boat Show, Hessel, MI

AGENCY: Coast Guard, Department of Homeland Security (DHS).

ACTION: Notice of enforcement of regulation.

SUMMARY: The Coast Guard will enforce the Annual Les Cheneaux Island Antique Wooden Boat Show special local regulation on the U.S. navigable waters of Hessel Marina, Hessel, MI on August 14, 2021. This action is necessary and intended to protect the safety of life and property on navigable waters prior to, during, and immediately after the boat show. During the enforcement period listed below, entry into, transiting, or anchoring within the safety zone are prohibited unless authorized by the Captain of the Port Sault Sainte Marie or a designated representative.

DATES: The regulations in 33 CFR 100.922 will be enforced for the Annual Les Cheneaux Islands Antique Wooden Boat Show regulated areas from 7 a.m. to 7 p.m. on August 14, 2021.

FOR FURTHER INFORMATION CONTACT: If you have questions about this notice of enforcement, call or email Lieutenant Deaven Palenzuela, Waterways Management division, U.S. Coast Guard; telephone 906-635-3223, email ssmprevention@uscg.mil.

SUPPLEMENTARY INFORMATION: The Coast Guard will enforce the established special local regulation in 33 CFR 100.922 for the Annual Les Cheneaux Island Antique Wooden Boat Show in Hessel, MI from 7 a.m. to 7 p.m. on August 14, 2021.

This action is being taken to protect the safety of life and property on navigable waters prior to, during, and immediately after the boat show. Our regulation for marine events within the Ninth Coast Guard District, § 100.922, specifies the location of the regulated area for the Annual Les Cheneaux Islands Antique Wooden Boat Show which encompasses the waters of Marquette Bay, Hessel, MI. During the enforcement period, no vessel may transit this regulated area without approval from the Captain of the Port Sault Sainte Marie or a designated representative. Vessels and persons granted permission to enter the special local regulated area shall obey all lawful orders or directions of the Captain of the Port Sault Sainte Marie, or an on-scene representative. The Coast Guard may be assisted by other Federal, State, or local law enforcement agencies in enforcing this regulation.

This notice of enforcement is issued under authority of 33 CFR 100.922 and 5 U.S.C. 552(a). In addition to this notification publishing in the Federal Register, the Coast Guard plans to provide notification of this enforcement period via Broadcast Notice to Mariners.

Dated: April 28, 2021.
A.R. Jones,
Captain, U.S. Coast Guard, Captain of the Port Sault Sainte Marie.

[FR Doc. 2021-09266 Filed 5-3-21; 8:45 am]

BILLING CODE 9110-04-P